DEPARTMENT OF THE INTERIOR

National Park Service

[NPS-WASO-NAGPRA-17820; PPWOCRADN0-PCU00RP14.R50000]

Native American Graves Protection and Repatriation Review Committee: Meeting

AGENCY: National Park Service, Interior.

ACTION: Meeting Notice.

SUMMARY: Notice is hereby given in accordance with the Federal Advisory Committee Act, (5 U.S.C. Appendix 1-16), of a meeting of the Native American Graves Protection and Repatriation Review Committee (Review Committee). The Review Committee will meet on April 13, 2015, from 2 p.m. until approximately 5 p.m. (Eastern) via teleconference. All meetings will be open to the public.

DATES: The Review Committee will meet on April 13, 2015, from 2 p.m. to 5 p.m. Register before April 10, 2015, to be provided the telephone access number for the meeting.

ADDRESSES: A registration link can be found at http://www.nps.gov/nagpra.

FOR FURTHER INFORMATION CONTACT: Melanie O'Brien, Designated Federal Officer, Native American Graves Protection and Repatriation Review Committee, National NAGPRA Program (2253), National Park Service, 1849 C Street NW., Washington, DC 20240, or via email nagpra_dfo@nps.gov.

SUPPLEMENTARY INFORMATION: The Review Committee was established in section 8 of the Native American Graves Protection and Repatriation Act of 1990 (NAGPRA), 25 U.S.C. 3006. The Review Committee will meet via teleconference on April 13, 2015, for the sole purpose of finalizing the Review Committee's Dispute Procedures. This meeting will be open to the public. Those who desire to attend the meeting should register through a link found at http://www.nps.gov/nagpra, before April 10, 2015, to be provided the telephone access number for the meeting. A transcript and minutes of the meeting will also appear on the Web site.

General Information

Information about NAGPRA, the Review Committee, and Review Committee meetings is available on the National NAGPRA Program Web site at http://www.nps.gov/nagpra. For the Review Committee's meeting procedures, click on “Review Committee,” then click on “Procedures.” Meeting minutes may be accessed by going to the Web site, then clicking on “Review Committee,” and then clicking on “Meeting Minutes.” Approximately fourteen weeks after each Review Committee meeting, the meeting transcript is posted on the National NAGPRA Program Web site.

Review Committee members are appointed by the Secretary of the Interior. The Review Committee is responsible for monitoring the NAGPRA inventory and identification process; reviewing and making findings related to the identity or cultural affiliation of cultural items, or the return of such items; facilitating the resolution of disputes; compiling an inventory of culturally unidentifiable human remains that are in the possession or control of each Federal agency and museum, and recommending specific actions for developing a process for disposition of such human remains; consulting with Indian tribes and Native Hawaiian organizations and museums on matters affecting such tribes or organizations lying within the scope of work of the Review Committee; consulting with the Secretary of the Interior on the development of regulations to carry out NAGPRA; and making recommendations regarding future care of repatriated cultural items. The Review Committee's work is carried out during the course of meetings that are open to the public.

Before including your address, telephone number, email address, or other personal identifying information in your comment, you should be aware that your entire comment—including your personal identifying information—may be made publicly available at any time. While you may ask us in your comment to withhold your personal identifying information from public review, we cannot guarantee that we will be able to do so.

Dated: March 18, 2015.
Alma Ripps,
Chief, Office of Policy.

[FR Doc. 2015-06798 Filed 3-24-15; 8:45 am]

BILLING CODE 4310-EE-P